DEPARTMENT OF AGRICULTURE

Forest Service

Idaho Panhandle National Forests, Bonner County, Idaho and Pend Oreille County, Washington; Chips Ahoy Project

AGENCY: Forest Service, USDA.

ACTION: Revised Notice of Intent to prepare an Environmental Impact Statement.

SUMMARY: The USDA Forest Service published a Notice of Intent to prepare and environmental impact statement for the Chips Ahoy Project in the Federal Register on December 6, 2002 (Vol. 67, No. 235, pages 72635-72637). A revised Notice of Intent is being issued due to two major changes (Forest Service Handbook 1909.15 part 21.2):

1. There will be a delay of more than six months in filing the final EIS;

2. There has been a change in the project's proposed action and purpose and need.

The Priest Lake Ranger District on the Idaho Panhandle National Forests will prepare an Environmental Impact Statement on a proposal to treat forest vegetation over approximately 2,000 acres. The treatments are being proposed to restore forest communities to a more historical composition and structure and to re-introduce fire into these ecosystems. Treatments will include regeneration harvest, thinning, and underburning. A Roads Analysis Process will be completed as a part of the Environmental Impact Statement. The Roads Analysis may suggest changes in the administrative and recreation use of roads and trails in the analysis area to protect forest and watershed resources.

DATES: Comments concerning the scope of the project analysis must be received within 30 days from the date of this notice in the Federal Register and during the Draft Environmental Impact Statement comment period of 45 days. The Draft Environmental Impact Statement is expected in September 2003 and the Final Environmental Impact Statement is expected February 2004.

ADDRESSES: Send written comments to Chips Ahoy Project, Attn: David DelSordo, Priest Lake Ranger Station, 32203 Highway 57, Priest River, ID 83856.

FOR FURTHER INFORMATION CONTACT: David DelSordo, Project Leader, Priest Lake Ranger Station, 32203 Highway 57, Priest River, ID 83856, by calling 208-443-6809, or ddelsordo@fs.fed.us.

SUPPLEMENTARY INFORMATION: The project area is located within Bonner County, Idaho, and Pend Oreille County, Washington. The project area is located approximately twenty miles north of the community of Priest River, Idaho. A past bark beetle outbreak, in combination with root diseases, other insects and diseases, and winter storm damage has left many of these stands in poor condition and with hazardous fuel loads. This Notice Of Intent reflects changes in the Purpose of the Action based on comments received over the last six months.

Purpose for Action

The purpose for this action is to improve the health, resilience, diversity, and productivity of terrestrial ecosystems by advancing species composition, forest structures, and patterns toward desired conditions; reduce fire risk in these ecosystems; and increase the amount of wet forest communities that are dominated by western white pine and western larch trees. Another purpose for the project is to help restore aquatic resources to a more healthy condition.

Proposed Action

The proposed action is separated into three categories, vegetative treatments, fuel treatments, and road treatments. The proposal is to treat forest vegetation over approximately 2,000 acres within the project area. Different types of treatments would be used depending upon the existing condition of the forest stands. These treatments include regeneration treatments on approximately half of the acreage and commercial thinning on the remaining acreage. After the tree cutting operations are complete, most of the vegetative treatment areas would be underburned to reduce the fuels, prepare the sites for reforestation, and to allow wildland fire to resume a more natural role. In order to access some of the proposed vegetative treatment areas, approximately 3.5 miles of temporary road would be constructed. These temporary roads would be recontoured following their use. Resource protection measures will be included to protect snags, soils, heritage resources, water quality, wildlife, and other resources. The arrangement and management of classified and unclassified roads and trails in the area may be changed to improve watershed quality, protect other resources, and enhance recreation opportunities. Approximately 8 miles of road are planned to be decommissioned. Construction of an alternate snowmobile use route is proposed to mitigate for planned road decommissioning.

Responsible Official

Ranotta K. McNair, Forest Supervisor, Idaho Panhandle National Forests, 3815 Schreiber Way, Ceour d'Alene, ID 83815

Nature of Decision To Be Made

The Forest Supervisor of the Idaho Panhandle National Forests will decide whether or not to implement this project, and if so, in what manner.

Scoping Process

The agency invites written comments and suggestions on the scope of the analysis. In addition to this notice, a revised proposed action letter will be sent to interested government officials, agencies, groups, and individuals on the Chips Ahoy mailing list. Please contact the Priest Lake Ranger Station at 208-443-2512 if you are interested in being added to this mailing list. No public meetings are planned at this time.

Comment Requested

This notice of intent initiates the scoping process which guides the development of the environmental impact statement. Specific written comments on the proposed action will be most helpful.

Early Notice of Importance of Public Participation in Subsequent Environmental Review

A Draft Environmental Impact Statement will be prepared for comment. The comment period on the Draft Environmental Impact Statement will be 45 days from the date the Environmental Protection Agency publishes the notice of availability in the Federal Register.

The Forest Service believes, at this early stage, it is important to give reviewers notice of several court rulings related to public participation in the environmental review process. First, reviewers of Draft Environmental Impact Statements must structure their participation in the environmental review of the proposal so that it is meaningful and alerts an agency to the reviewer's position and contentions; Vermont Yankee Nuclear Power Corp. v. NRDC, 435 U.S. 519, 553 (1978). Also, environmental objections that could be raised at the Draft Environmental Impact Statement stage but that are not raised until after completion of the Final Environmental Impact Statement may be waived or dismissed by the courts; City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningful consider them and respond to them in the Final Environmental Impact Statement.

To assist the Forest Service in identifying and considering issues and concerns on the proposed action, comments on the Final Environmental Impact Statement should be as specific as possible. It is also helpful if comments refer to specific pages or chapters of the draft statement. Comments may also address the adequacy of the Final Environmental Impact Statement or the merits of the alternative formulated and discussed in the statement. Reviewers may wish to refer to the Council on Environmental Quality Regulations for implementing the procedural provisions of the National Environmental Policy Act at 40 CFR 1503.3 in addressing these points.

Comments received, including the names and address of those who comment, will be considered part of the public record on this proposal and will be available for public inspection.

(Authority: 40 CFR 1501.7 and 1508.22; Forest Service Handbook 1909.15, section 21.)

Dated: June 2, 2003.
Ranotta K. McNair,
Forest Supervisor.

[FR Doc. 03-14269 Filed 6-5-03; 8:45 am]

BILLING CODE 3410-11-M